INTERNATIONAL TRADE COMMISSION

[Investigation No. 337-TA-1290]

Certain Refrigerator Water Filtration Devices and Components Thereof; Notice of Commission Decision Not To Review an Initial Determination Partially Terminating the Investigation as to Certain Respondents Based on Settlement; Request for Written Submissions on Remedy, the Public Interest, and Bonding

AGENCY: U.S. International Trade Commission.

ACTION: Notice.

SUMMARY: Notice is hereby given that the U.S. International Trade Commission has determined not to review an initial determination (“ID”) (Order No. 47) of the presiding Chief Administrative Law Judge (“Chief ALJ”) terminating the above-captioned investigation as to respondents Yunda H&H Tech (Tianjin) Co., LTD. of Tianjinshi, China; Tianjin Tianchuang Best Pure Environmental Science And Technology Co. Ltd. of Tianjin, China; Top Pure (Usa) Inc. of Pico Rivera, California; and W&L Trading LLC of Frisco, Texas (collectively, “Third Settling Respondents”) based on settlement. The Commission has also determined to request written submissions from the parties, interested government agencies, and interested persons, under the schedule set forth below, on remedy, the public interest, and bonding concerning the defaulting respondents.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On January 21, 2022, the Commission instituted this investigation under section 337 of the Tariff Act of 1930, as amended, 19 U.S.C. 1337 (“section 337”), based on a complaint filed by LG Electronics Inc. of Seoul, Republic of Korea, and LG Electronics Alabama, Inc. of Huntsville, Alabama (collectively, “Complainants”). See 87 FR 3331-33 (Jan. 21, 2022). The complaint, as supplemented, alleges a violation of section 337 based upon the importation into the United States, the sale for importation, and the sale within the United States after importation of certain refrigerator water filtration devices and components thereof by reason of infringement of certain claims of U.S. Patent Nos. 10,653,984; 10,639,570 (“the '570 patent”); and 10,188,972 (“the '972 patent”). See id. In addition to the Third Settling Respondents, the notice of investigation names the following respondents: (1) Qingdao Ecopure Filter Co., Ltd of Qingdao, China; Qingdao Maxwell Commercial and Trading Company Ltd of Qingdao Chengyang, China; and Qingdao Uniwell Trading Co., Ltd. of Qingdao, China (collectively, “First Settling Respondents”); (2) Express Parts LLC of Keyport, New Jersey; Ningbo Haishu Keze Replacement Equipment Co., Ltd. of Ningboshi, China; Ningbo Bichun Technology Co., Ltd. (formerly Ningbo Haishu Bichun Technology Co., Ltd.) of Ningbo City, China; Ningbo Haishu Shun'anjie Water Purification Equipment LLC of Ningbo, China; Shenzhen Yu Tian Qi Technology Co., Ltd. of Shenzhen, China; and AGA Imports LLC d/b/a ClearWater Filters of Lakewood, New Jersey (collectively, “Second Settling Respondents”); (3) Freshlab LLC of Gainesville, Florida; Isave Strategic Marketing Group LLC of New York, New York; GT Sourcing Inc. of Monsey, New York; and Refresh Filters LLC of New York, New York (collectively, “First Defaulting Respondents”); (4) All Filters LLC of Salt Lake City, Utah; Jiangsu Angkua Environmental Technical Co., Ltd. of Nantong, China (“Jiangsu”); and Shenzen Hangling E-Commerce Co. Ltd of Elmhurst, Illinois (collectively, “Second Defaulting Respondents”); (5) JJ Imports LLC of Elmwood Park, New Jersey (“JJ Imports”); (6) Aicuiying of Shenzhen, China; Liu Qi of Luliang City, China; Lvliangshilishiquhuiliwujinbaihuoshan Ghang of Luliang, China; and Zhenpingxianjiaxuanyazhubaofuzhu Anggongyipinyouxia of Wuhanshi, China (collectively, “Unserved Respondents”); (7) Qinghaishunzexiaofangjianceyouxiang Ongsi of Xining City, China; and Zhang Ping of Dongyang, China (collectively, “Third Defaulting Respondents”); and (8) Pursafet Water Filter (Wuhan) Inc. of Wuhan, China (“Pursafet”). See id. The Office of Unfair Import Investigations (“OUII”) is also a party to the investigation. See id.

On April 12, 2022, the Commission terminated the investigation as to JJ Imports based on the entry of a consent order. See Order No. 14 (Mar. 30, 2022), unreviewed by Comm'n Notice (Apr. 12, 2022). On June 28, August 29, and December 2, 2022, respectively, the Commission found the First, Second, and Third Defaulting Respondents in default for failure to respond to the complaint, notice of investigation, and orders to show cause. See Order No. 22 (June 3, 2022), unreviewed by Comm'n Notice (June 28, 2022); Order No. 28 (July 28, 2022), unreviewed by Comm'n Notice (Aug. 29, 2022); Order No. 40 (Nov. 2, 2022), unreviewed by Comm'n Notice (Dec. 2, 2022). On October 20 and November 8, 2022, respectively, the Commission terminated the investigation as to the First and Second Settling Respondents. See Order No. 37 (Sept. 28, 2022), unreviewed by Comm'n Notice (Oct. 20, 2022); Order No. 38 (Oct. 7, 2022), unreviewed by Comm'n Notice (Nov. 8, 2022). On December 2, 2022, the Commission partially terminated the investigation as to the Unserved Respondents based on the withdrawal of the complaint as to those respondents. See Order No. 39 (Nov. 2, 2022), unreviewed by Comm'n Notice (Dec. 2, 2022). On December 21, 2022, the Commission partially terminated the investigation as to Pursafet for good cause based on dissolution of the corporation. See Order No. 43 (Dec. 2, 2022), unreviewed by Comm'n Notice (Dec. 21, 2022).

On September 16, 2022, the Commission partially terminated the investigation as to the '972 patent in its entirety. See Order No. 31 (Aug. 16, 2022), unreviewed by Comm'n Notice (Sept. 16, 2022). On October 3, 2022, the Commission partially terminated the investigation as to claims 2-8 of the '570 patent. See Order No. 35 (Sept. 19, 2022), unreviewed by Comm'n Notice (Oct. 3, 2022).

On December 22, 2022, Complainants and the Third Settling Respondents (collectively, “the Moving Parties”) filed an unopposed corrected joint motion to partially terminate the investigation as to the Third Settling Respondents. On December 23, 2022, OUII filed a response in support of the motion. No other response was received.

On January 4, 2023, the Chief ALJ issued the subject ID (Order No. 47) granting the joint motion and staying the procedural schedule as to the Third Settling Respondents. The ID finds that the joint motion complies with the requirements of Commission Rule 210.21(b), 19 CFR 210.21(b). See ID at 2-3. In particular, the Moving Parties included public and confidential versions of the settlement agreement. See id. In addition, the Moving Parties represent that “[t]here are no other agreements, written or oral, express or implied, between the [Moving] Parties concerning the subject matter of this Investigation.” See id. The ID also finds no evidence that terminating this investigation on the basis of settlement would adversely affect the public interest. See id. at 3. The ID further finds that good cause exists for limiting the service of the confidential version of the settlement agreement to the Moving Parties and OUII. See id. at 4. Because no participating respondent remains in the investigation, the ID also terminates the investigation in its entirety. See id. at 7. The ID further notes that Complainants have withdrawn their request for a general exclusion order and denies as moot Complainants' motion for a recommended determination as to the defaulting respondents. See id. No petition for review of the subject ID was filed.

The Commission has determined not to review the subject ID.

Furthermore, on January 11, 2023, Complainants filed a Declaration under Commission Rule 210.16 (19 CFR 210.16) requesting the immediate entry of a limited exclusion order against the defaulting respondents and cease and desist orders against the defaulting respondents except Jiangsu. Complainants also indicated, pursuant to 19 CFR 210.16(c)(2), that they are not seeking a general exclusion order. No response to Complainants' Declaration was received.

Commission Rule 210.16(c)(1) provides that “[a]fter a respondent has been found in default by the Commission, the complainant may file with the Commission a declaration that it is seeking immediate entry of relief against the respondent in default” and “[t]he facts alleged in the complaint will be presumed to be true with respect to the defaulting respondent.” See 19 CFR 210.16. In addition, “[t]he Commission may issue an exclusion order, a cease and desist order, or both, affecting the defaulting respondent only after considering the effect of such order(s) upon the public health and welfare, competitive conditions in the U.S. economy, the production of like or directly competitive articles in the United States, and U.S. consumers, and concluding that the order(s) should still be issued in light of the aforementioned public interest factors.” See id.

Accordingly, the Commission has determined to request written submissions from the parties, interested government agencies, and interested persons, under the schedule set forth below, on remedy, the public interest, and bonding. More specifically, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

If the Commission contemplates some form of remedy, it must consider the effects of that remedy upon the public interest. The factors the Commission will consider include the effect that an exclusion order and/or cease and desist orders would have on (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve or disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to the investigation, interested government agencies, and any other interested parties are encouraged to file written submissions on the issues of remedy, the public interest, and bonding. Complainants are also requested to submit proposed remedial orders for the Commission's consideration. Complainants are further requested to provide the HTSUS numbers under which the accused products are imported, and to supply the names of known importers of the products at issue in this investigation.

Written submissions and proposed remedial orders must be filed no later than close of business on February 13, 2023. Reply submissions must be filed no later than the close of business on February 20, 2023. No further submissions on any of these issues will be permitted unless otherwise ordered by the Commission.

Persons filing written submissions must file the original document electronically on or before the deadlines stated above. The Commission's paper filing requirements in 19 CFR 210.4(f) are currently waived. 85 FR 15798 (March 19, 2020). Submissions should refer to the investigation number (“Inv. No. 337-TA-1290”) in a prominent place on the cover page and/or the first page. (See Handbook for Electronic Filing Procedures, https://www.usitc.gov/documents/handbook_on_filing_procedures.pdf). Persons with questions regarding filing should contact the Secretary (202-205-2000).

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. All information, including confidential business information and documents for which confidential treatment is properly sought, submitted to the Commission for purposes of this Investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All non-confidential written submissions will be available for public inspection at the Office of the Secretary and on EDIS.

The Commission's vote for these determinations took place on February 2, 2023.

The authority for the Commission's determination is contained in section 337 of the Tariff Act of 1930, as amended (19 U.S.C. 1337), and in part 210 of the Commission's Rules of Practice and Procedure (19 CFR part 210).

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the complainant(s) complete service for any party/parties without a method of electronic service noted on the attached Certificate of Service and shall file proof of service on the Electronic Document Information System (EDIS).

By order of the Commission.
Issued: February 2, 2023.
Katherine Hiner,
Acting Secretary to the Commission.

[FR Doc. 2023-02635 Filed 2-7-23; 8:45 am]

BILLING CODE 7020-02-P